DEPARTMENT OF HOUSING AND URBAN DEVELOPMENT

[Docket No. FR-5544-D-04]

Redelegation of Administrative Authority for Title I, Section 109 of the Housing and Community Development Act of 1974

AGENCY: Office of the Assistant Secretary for Fair Housing and Equal Opportunity, HUD.

ACTION: Notice of redelegation of authority.

SUMMARY: The Assistant Secretary for Fair Housing and Equal Opportunity (FHEO) supersedes all prior redelegations of authority from the Assistant Secretary for FHEO under Title I, Section 109 of the Housing and Community Development Act of 1974, and redelegates certain authority, to FHEO headquarters and Region staff.

DATES: Effective Date: November 16, 2011.

FOR FURTHER INFORMATION CONTACT: Sara K. Pratt, Deputy Assistant Secretary for Enforcement and Programs, Office of Fair Housing and Equal Opportunity, Department of Housing and Urban Development, 451 Seventh Street SW., Room 5204, Washington, DC 20410-0001, telephone (202) 402-6322. (This is not a toll-free number.) Hearing- and speech-impaired individuals may access this number through TTY by calling the toll-free Federal Relay Service at (800) 877-8339.

SUPPLEMENTARY INFORMATION: By separate notice published in today's Federal Register, the Secretary delegates to the Assistant Secretary for FHEO authority pertaining to civil rights statutes. Included in that consolidated delegation is, with certain exceptions, the authority to act under Title I, Section 109 of the Housing and Community Development Act of 1974 (42 U.S.C. 5309). The provisions of Section 109 are implemented through HUD's regulations in 24 CFR part 6. (See also 24 CFR 6.3, in which the “Responsible Official” is defined as the Assistant Secretary for FHEO (or the Assistant Secretary's designee).

In this notice, the Assistant Secretary for FHEO, supersedes all previous redelegations and retains and redelegates the authority to act as the “Responsible Official” under Title I Section 109 of the Housing and Community Development Act of 1974, and its implementing regulations subject to certain exceptions.

Section A. Authority Redelegated

The Assistant Secretary for FHEO retains and, with noted exception, redelegates to the General Deputy Assistant Secretary for FHEO the authority to act as the “Responsible Official” under Section 109, only as provided in 24 CFR 6.10 and 6.11. This includes the authority to further redelegate. The General Deputy Assistant Secretary for FHEO retains and, with noted exception, further redelegates these authorities to the Deputy Assistant Secretary for Enforcement and Programs, Director of the Office of Enforcement, FHEO Region Directors and the Director of the Office of Systemic Investigations.

Section B. Authority Excepted

The authority redelegated by the Assistant Secretary in this notice does not include the authority to issue or to waive regulations or the authority under 24 CFR 6.13. The authority delegated by the General Deputy Assistant Secretary does not include the authority to further redelegate. As to the FHEO Region Directors and the Director of Systemic Investigations, the authority delegated does not include the authority under 24 CFR 6.11(c) to review letters of finding.

Section C. Delegations of Authority Superseded

All prior redelegations of the authority within the Office of the Assistant Secretary for FHEO under Section 109 of the Housing and Community Development Act of 1974 are superseded.

Authority: Section 7(d), Department of Housing and Urban Development Act, 42 U.S.C. 3535(d).

Dated: November 16, 2011.
John Trasviña,
Assistant Secretary for Fair Housing and Equal Opportunity.
Bryan Greene,
General Deputy Assistant Secretary for Fair Housing and Equal Opportunity.

[FR Doc. 2011-30757 Filed 11-28-11; 8:45 am]

BILLING CODE 4210-67-P